NATIONAL SCIENCE FOUNDATION

Advisory Committee for Biological Sciences; Notice of Meeting

In accordance with the Federal Advisory Committee Act (Pub. L. 92-463, as amended), the National Science Foundation announces the following meeting:

Name: Advisory Committee for Biological Sciences (#1110).

Date/Time: May 9, 10, 11, 2001; 8:30 a.m.-5 p.m.

Place: Room 630, National Science Foundation, 4201 Wilson Blvd., Arlington, VA.

Type of Meeting: Part Closed.

Contact Person: Dr. Jane Silverthorne and Dr. Chris Cullis, Program Directors for Plant Genome Research Program, Room 615, National Science Foundation, 4201 Wilson Blvd., Arlington, VA 22230; Telephone: 703-292-8470.

Purpose of Meeting: To carry out committee of visitors review, including program evaluation and GPRA assessments.

Agenda: Open Sessions—Introduction, program officers discussions, Fastlane discussion.

Closed Sessions—Proposals review, recommendations formulation, COV report drafting.

Reason for Closing: During the closed session, committee will review proposal actions that include information of a proprietary or confidential nature, including technical information; financial data, such as salaries; and personal information concerning individuals associated with the proposals. These matters are exempt under 5 U.S.C. 552b(c), (4) and (6) of the Government in the Sunshine Act.

Dated: May 1, 2001.
Susanne Bolton,
Committee Management Officer.

[FR Doc. 01-11286 Filed 5-3-01; 8:45 am]

BILLING CODE 7555-01-M